INTERNATIONAL TRADE COMMISSION

[Investigation Nos. 731-TA-1074-1075 (Final)]

Certain Circular Welded Carbon Quality Line Pipe From Korea and Mexico

AGENCY: United States International Trade Commission.

ACTION: Revised schedule for the subject investigations.

EFFECTIVE DATE: December 14, 2004.

FOR FURTHER INFORMATION CONTACT: Fred Ruggles (202-205-3187 or e-mail at fred.ruggles@usitc.gov), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these investigations may be viewed on the Commission's electronic docket (EDIS) at http://edis.usitc.gov.

SUPPLEMENTARY INFORMATION: On October 18, 2004, the Commission established a schedule for the conduct of the final phase of the subject investigations (69 FR 61858, October 21, 2004). Subsequently, the U.S. Department of Commerce terminated its final investigation concerning China. The Commission, therefore, is revising its schedule concerning Korea and Mexico to reflect the expected timing of Commerce's final determinations in the remaining investigations.

The Commission's new schedule for the investigations is as follows: requests to appear at the hearing must be filed with the Secretary to the Commission not later than February 14, 2005; the prehearing conference will be held at the U.S. International Trade Commission Building at 9:30 a.m. on February 18; the deadline for filing prehearing briefs is February 14; the hearing will be held at the U.S. International Trade Commission Building at 9:30 a.m. on February 22; the deadline for filing posthearing briefs is March 1; the Commission will make its final release of information on March 17; and final party comments are due on March 21.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

By order of the Commission.
Issued: December 15, 2004.
Marilyn R. Abbott,
Secretary to the Commission.

[FR Doc. 04-27802 Filed 12-17-04; 8:45 am]

BILLING CODE 7020-02-P